DEPARTMENT OF THE INTERIOR

Bureau of Land Management

[LLWO300000.L1430000]

Amended Proposed Withdrawal, Notice of Public Meetings, Partial Termination of Segregative Effect; Arizona, California, Colorado, Nevada, New Mexico, and Utah

AGENCY: Bureau of Land Management, Interior.

ACTION: Notice.

SUMMARY: The Assistant Secretary of the Interior for Land and Minerals Management proposes to withdraw approximately 677,384 acres of public lands from settlement, sale, location, or entry under the public land laws, including the mining laws, on behalf of the Bureau of Land Management (BLM) to protect and preserve for a 5-year period, 24 Solar Energy Study Areas, now known as proposed Solar Energy Zones (SEZ), while they are analyzed for future solar energy development as part of the Programmatic Environmental Impact Statement for Solar Energy Development in Six Southwestern States. The lands will remain open to the mineral leasing, geothermal leasing, and mineral material laws. On June 30, 2009, a Notice of Proposed Withdrawal was published in the Federal Register (74 FR 31308), which segregated the lands from settlement, sale, location, or entry under the general land laws, including the mining laws, for a 2-year period. This new Notice slightly amends the prior proposal and provides revised legal descriptions for the proposed SEZs to include some additional lands. It also terminates the segregative effect as to lands no longer included in the proposed withdrawal.

DATES: Comments must be received by July 20, 2011. The BLM will hold a public meeting on the proposed withdrawal. The location, date, and time of the scheduled public meeting is listed in the SUPPLEMENTARY INFORMATION section below.

ADDRESSES: Written comments should be sent to the BLM Director, 1849 C Street, NW., (WO-350), Washington, DC, 20240.

FOR FURTHER INFORMATION CONTACT: Linda Resseguie, BLM, by telephone at 202-912-7337, or by e-mail at linda_resseguie@blm.gov; or one of the BLM State Offices listed below.

SUPPLEMENTARY INFORMATION: The applicant is the BLM at the address above, and its amended application requests the Assistant Secretary of the Interior for Land and Minerals Management to withdraw, subject to valid existing rights, approximately 677,384 acres of public lands located in the States of Arizona, California, Colorado, Nevada, New Mexico, and Utah from settlement, sale, location, or entry under the public land laws, including the mining laws, but not the mineral leasing, geothermal leasing, or the mineral material laws. On June 30, 2009, a Notice of Proposed Withdrawal and Opportunity for Public Meeting was published in the Federal Register (74 FR 31308), which segregated the lands from surface entry and mining for a 2-year period. As a result of scoping comments received, and land management decisions made since then, adjustments to the boundaries of all 24 original SEZs have been made and they have been conformed to the Public Land Survey System by establishing legal land descriptions for each area. Three modifications were made regarding the subject lands: (1) Including lands within the exterior boundaries of the SEZs that have slopes greater than 5 percent; (2) deleting lands from the original areas that are not applicable to the purpose for the proposed withdrawal; and (3) adding adjacent lands that were found to be equally well suited to solar energy development. Copies of maps depicting the updated land descriptions are available at the Programmatic EIS Web site (http://solareis.anl.gov) and are also available from the BLM offices listed below:

Arizona State Office, One North Central Avenue, Suite 800, Phoenix, Arizona 85004.

California State Office, 2800 Cottage Way, Suite W-1623, Sacramento, California 95825.

Colorado State Office, 2850 Youngfield Street, Lakewood, Colorado 80215.

Nevada State Office, 1340 Financial Boulevard, Reno, Nevada 89502.

New Mexico State Office, 301 Dinosaur Trail, Santa Fe, New Mexico 87508.

Utah State Office, 440 West 200 South, Suite 500, Salt Lake City, Utah 84101.

The SEZs depicted on the maps are described as follows:

ARIZONA—AZ 035131

Gila and Salt River Meridian

Brenda SEZ:

T. 4 N., R. 16 W.,

Sec. 1, lots 3 and 4, S½NW¼, and SW¼;

Secs. 2, 3, and 4;

Sec. 5, lots 1, 2, and 3, S½NE¼, and NE¼SE¼;

Sec. 9, NE¼, NE¼NW¼, and NE¼SE¼;

Sec. 10, N½, N½S½, and SW¼SW¼;

Sec. 11, NW¼.

T. 5 N., R. 15 W.,

Sec. 31, lots 1 to 4, inclusive, E½W½, and E½.

The areas described aggregate approximately 3,878 acres.

Bullard Wash SEZ:

T. 9 N., R. 9 W.,

Sec. 1, S½;

Sec. 2, S½S½;

Sec. 3, SW¼ and S½SE¼;

Sec. 4, E½SE¼;

Sec. 8, NE¼, N½SE¼, N½SW¼SE¼, and SE¼SE¼;

Sec. 9, S½;

Secs. 10, 11, 12, 14, and 15;

Sec. 17, NE¼NE¼;

Sec. 21, NE¼NE¼;

Sec. 22, NE¼, E½NW¼, NW¼NW, N½SE¼, and SE¼SE¼;

Secs. 23 and 24;

Sec. 25, N½, N½SW¼, SE¼SW¼, and SE¼;

Sec. 26, NE¼, NE¼NW¼, and NE¼SE¼.

The areas described aggregate approximately 7,239 acres.

Gillespie SEZ:

T. 2 S., R. 6 W.,

Sec. 6, SW¼, W½SE¼, and SE¼SE¼, unsurveyed;

Sec. 7, N½, NE¼SW¼, N½SE¼, and SE¼SE¼, unsurveyed;

Sec. 8, SE¼NW¼, W½NW¼, SW¼, S½SE¼, and NW¼SE¼, unsurveyed;

Sec. 9, SW¼SW¼, unsurveyed;

Sec. 15, NW¼SW¼, N½SW¼SW¼, SE¼SW¼, and S½SW¼SE¼, unsurveyed;

Sec. 16, S½NE¼, S½NW¼NE¼, NW¼, and N½NE¼SE¼, unsurveyed;

Sec. 17, N½NE¼, N½SE¼NE¼, NE¼NW¼, and N½NW¼NW¼, unsurveyed;

Sec. 22, S½NE¼NE¼, NW¼NE¼, N½SW¼NE¼, SE¼NE¼, and N½NE¼NW¼, unsurveyed;

Sec. 23, SW¼NW¼, N½SW¼, SE¼SW¼, S½NE¼SE¼, NW¼SE¼, and S½SE¼, unsurveyed;

Sec. 24, S½NW¼SW¼ and S½SW¼, unsurveyed.

T. 2 S., R. 7 W.,

Sec. 1, SE¼SW¼, NE¼SE¼, and S½SE¼;

Sec. 12, N½NE¼, SE¼NE¼, and NE¼NW¼.

The areas described aggregate approximately 2,618 acres.

CALIFORNIA—CA 050951

San Bernardino Meridian

Iron Mountain SEZ:

T. 1 N., R. 17 E.,

Secs. 1, 2, 3, and 10 to 14, inclusive.

T. 2 N., R. 17 E.,

Sec. 12, lots 3 to 8, inclusive, SW¼NE¼, S½NW¼, SW¼, and W½SE¼;

Sec. 13;

Sec. 22, E½, S½NW¼, and SW¼;

Secs. 23 to 27, inclusive, 34 and 35.

T. 1 N., R. 18 E.,

Secs. 1 to 14, inclusive;

Sec. 15, lots 1 to 6, inclusive, NE¼, E½NW¼, and E½SE¼;

Secs. 16, 17, 18, and 21;

Sec. 22, NE¼NE¼, E½SE¼NE¼, NW¼SE¼NE¼, W½W½, W½E½NW¼, E½SW¼, and W½SW¼SE¼;

Sec. 23, lots 1 to 6, inclusive, N½N½, and SE¼NE¼;

Sec. 24;

Sec. 25, lot 1, NE¼, E½NW¼, SW¼NW¼, and S½;

Sec. 26, lots 1 to 4, inclusive, and SE¼;

Sec. 27, W½E½NW¼, W½NW¼, and W½NW¼SW¼;

Sec. 28, N½, E½NE¼SW¼, NW¼NE¼SW¼, N½NW¼SW¼, and N½SE¼;

Sec. 29, E½NE¼, NW¼NE¼, N½SW¼NE¼, SE¼SW¼NE¼, N½SW¼SW¼NE¼, and NE¼NE¼SE¼;

Sec. 32, SW¼NE¼NE¼, S½NW¼NE¼, S½N½NW¼ excluding lands within Right-of-Way CALA-051594, S½N½ excluding lands within Right-of-Way CALA-051594, and S½ excluding lands within Right-of-Way CALA-051594;

Sec. 33, S½S½NE¼, W½SE¼NW¼, SW¼NW¼, SE¼SE¼NW¼, and S½;

Sec. 34, SE¼NE¼NE¼, S½NE¼, E½SE¼NW¼, SW¼SE¼NW¼, S½SW¼NW¼, and S½;

Sec. 35, lot 1, E½, E½NW¼, SW¼NW¼, and SW¼;

Sec. 36.

T. 2 N., R. 18 E.,

Sec. 7, S½ of lots 1 and 2 in the NW¼, lots 1 and 2 in the SW¼, W½SE¼, and SE¼SE¼;

Sec. 15, S½NE¼, E½SW¼, and SE¼;

Sec. 17, SE¼NW¼, W½NW¼, and S½;

Secs. 18, 19, and 20;

Sec. 21, SW¼NE¼, S½NW¼, NW¼NW¼, and S½;

Sec. 22, E½, E½NW¼, SW¼SW¼, and E½SW¼;

Sec. 23, S½NW¼, SW¼, and S½SE¼;

Sec. 24, S½SW¼;

Sec. 25, W½NE¼, SE¼NE¼, W½, and SE¼;

Secs. 26 to 35, inclusive.

T. 1 N., R. 19 E.,

Secs. 1 to 15, inclusive, and secs. 17 to 35, inclusive.

T. 2 N., R. 19 E.,

Sec. 22, S½S½;

Sec. 23, E½SW¼, SW¼SW¼, and SE¼;

Sec. 24, E½, S½NW¼, and SW¼;

Secs. 25, 26, and 27;

Sec. 28, E½, S½NW¼, and SW¼;

Sec. 29, S½;

Sec. 30, S½ of lots 1 and 2 in the NW¼, lots 1 and 2 in the SW¼, SW¼NE¼, and SE¼;

Secs. 31 to 35, inclusive.

T. 1 N., R. 20 E.,

Secs. 5 to 9, inclusive, and secs. 16 to 21, inclusive;

Sec. 22, W½NE¼, S½SE¼NE¼, W½, and SE¼;

Secs. 27 to 34, inclusive.

T. 2 N., R. 20 E.,

Secs. 19, 30, and 31;

Sec. 32, S½.

T. 1 S., R. 18 E.,

Secs. 1 to 4, inclusive;

Sec. 5, excluding the lands within the Right-of-Way CALA-051594;

Sec. 8, NE¼, E½SE¼, and NW¼SE¼ excluding lands within the Right-of-Way CALA-051594;

Secs. 9, 10, and 11;

Sec. 12, excluding the lands within the Right-of-Way CALA-052369;

Sec. 13, E½ excluding the lands within the Right-of-Way CALA-052369, NW¼, and W½SW¼;

Sec. 14;

Sec. 15, E½ and E½W½;

Sec. 23, N½NE¼ and NE¼NW¼;

Sec. 24, N½NE¼ excluding the lands within the Right-of-Way CALA-052369, NE¼SW¼NE¼, N½SE¼NE¼, and NW¼NW¼.

T. 1 S., R. 19 E.,

Secs. 1 to 10, inclusive;

Sec. 11, N½ and S½ excluding lands within Right-of-Way CALA-0118172;

Sec. 12, N½N½, S½NW¼, and N½NW¼SW¼;

Sec. 15, N½NE¼, SW¼NE¼, NW¼, N½N½SW¼, and N½NW¼SE¼;

Secs. 17 and 18;

Sec. 19, lots 1 and 2 in the NW¼ excluding lands within Right-of-Way CALA-0118169 and CALA 052369, and NE¼ excluding lands within Right-of-Way CALA-0118169;

Sec. 20, N½ excluding lands within Right-of-Way CALA-0118169;

Sec. 21, NW¼NW¼ excluding lands within Right-of-Way CALA-0118172.

T. 1 S., R. 20 E.,

Sec. 3;

Sec. 4, lots 1 and 2 in the NE¼, lots 1 and 2 in the NW¼, N½SW¼, N½S½SW¼, S½SE¼SW¼, and SE¼;

Sec. 5, lots 1 and 2 in the NE¼, lots 1 and 2 in the NW¼, N½S½, and N½S½S½;

Sec. 6;

Sec. 9, N½NE¼ and NE¼NW¼;

Sec. 10, N½N½, SE¼NW¼, S½NE¼, N½N½SE¼ excluding lands within the Right-of-Way CALA-0118172, and N½NE¼SW¼ excluding lands within the Right-of-Way CALA-0118172.

The areas described aggregate approximately 106,522 acres.

Riverside East SEZ

T. 3 S., R. 15 E.,

Sec. 15, SW¼;

Sec. 21, NE¼NE¼, E½NW¼NE¼, SW¼NE¼, SE¼NE¼, S½SW¼, NE¼SW¼, S½SE¼NW¼, and SE¼;

Sec. 22, SW¼NW¼NE¼, SW¼NE¼, SW¼SE¼NE¼, W½, W½NE¼SE¼, SE¼NE¼SE¼, W½SE¼, and SE¼SE¼;

Sec. 23, W½SW¼SW¼;

Sec. 26, SW¼NE¼NW¼, W½NW¼, SE¼SE¼NW¼, SW¼ excluding lands within Right-of-Way CALA-051571, W½NW¼SE¼, SW¼SE¼ excluding non-public lands and lands within Right-of-Way CALA-051597, and S½SE¼SE¼;

Sec. 27 excluding lands within Right-of-Way CALA-051597;

Sec. 28;

Sec. 29, E½NE¼, SW¼NE¼, SE¼SE¼NW¼, E½SW¼, SW¼SW¼ excluding non-public lands, and SE¼;

Sec. 32, N½, and S½ excluding nonpublic lands and lands within Right-of-Way CALA-051571;

Sec. 33, excluding lands within Right-of-Way CALA-051571;

Sec. 34, excluding lands within Right-of-Way CALA-051597;

Sec. 35, excluding lands within Right-of-Way CALA-052057 and CALA-051206.

T. 4 S., R. 15 E.,

Sec. 1, excluding lands within Joshua Tree National Park;

Secs. 2 and 3, excluding lands within Right-of-Way CALA-051206;

Sec. 4, excluding non-public lands;

Sec. 5, excluding non-public lands and lands within Right-of-Way CALA-051571;

Sec. 8, excluding lands within Right-of-Way CALA-051571;

Sec. 9, excluding lands within Right-of-Way CALA-051206;

Sec. 10, excluding lands within Right-of-Way CALA-051206;

Secs. 11 and 12;

Sec. 13, excluding non-public lands;

Secs. 14 and 15;

Sec. 17, that portion situated north of Right-of-Way CALA-051206 and north and east of Right-of-Way CALA-051571;

Sec. 21, that portion situated north of Right-of-Way CALA-0149780;

Secs. 22, 23, and 24;

Sec. 25, N½N½, SW¼NE¼, S½NW¼, SW¼ excluding non-public lands, W½SE¼, and SE¼SE¼;

Sec. 26, N½, S½SW¼SW¼, SW¼SE¼SW¼, NE¼SE¼, NE¼NW¼SE¼, and NE¼SE¼SE¼;

Sec. 27, N½NE¼, N½SE¼NE¼, N½NE¼NW¼, SE¼NE¼SW¼, E½SE¼SW¼, S½SE¼, and S½NW¼SE¼;

Sec. 30, lots 1 and 2, W½NE¼, NW¼ unsurveyed, and NW¼SE¼;

Sec. 31, N½ of lot 1 in the NW¼ and N½ of lot 2 in the NW¼;

Sec. 34, E½ and E½E½W½;

Sec. 35, lots 1 and 2, SW¼NE¼NE¼, S½NW¼NE¼, SW¼NE¼, W½SE¼NE¼, SE¼SE¼NE¼, W½, N½SE¼, and SW¼SE¼.

T. 5 S., R. 15 E.,

Sec. 3, E½ of lot 1 in the NE¼, E½ lot 2 in the NE¼, and E½SE¼;

Sec. 10, E½NE¼ and NE¼SE¼;

Sec. 13, S½;

Sec. 14, S½;

Sec. 15, E½SE¼;

Sec. 22, E½NE¼, SW¼, and N½SE¼, excluding nonpublic lands;

Sec. 23, N½ and SE¼;

Sec. 24, N½, SW¼, E½SE¼, and SW¼SE¼;

Sec. 25, N½N½N½;

Sec. 27, NW¼NW¼.

T. 3 S., R. 16 E.,

Sec. 13;

Sec. 14, E½NE¼, SE¼SW¼, and SE¼;

Sec. 22, E½SE¼ and SW¼SE¼;

Secs. 23 and 24;

Sec. 25, excluding non-public lands;

Sec. 26, NE¼NE¼.

T. 4 S., R. 16 E.,

Sec. 1, excluding lands within Right-of-Way CALA-051207;

Sec. 7, lot 3;

Sec. 12, excluding lands within Right-of-Way CALA-051207;

Sec. 13;

Sec. 14, excluding lands within Joshua Tree National Park;

Sec. 18, S½ of lot 1 in the NW¼, lot 1 in the E½SW¼, lots 2 and 3, and SW¼SE¼;

Sec. 19, excluding non-public lands;

Sec. 20, SW¼NW¼, SW¼, W½SE¼, and SE¼SE¼;

Sec. 21, SW¼SW¼;

Sec. 22, E½SE¼;

Sec. 23, excluding lands within Joshua Tree National Park;

Secs. 24 and 25;

Sec. 26, E½, E½W½, and NW¼NW¼;

Sec. 27, N½NE¼;

Sec. 28, NW¼, N½SW¼, and SW¼SW¼ excluding lands within Right-of-Way CALA-051221;

Sec. 29, N½, W½SW¼, and SE¼;

Sec. 30, excluding non-public lands;

Sec. 31, lot 3 in the NW¼NW¼, N½ of lot 3 in the SW¼NW¼, and S½ of lot 3 in the SW¼SW¼;

Sec. 35;

Sec. 36, NE¼, E½NW¼, NE¼SW¼, and S½SE¼.

T. 5 S., R. 16 E.,

Secs. 1 and 2;

Sec. 3, lots 1 and 2 in the NE¼, lot 1 in the NW¼ excluding nonpublic lands, lot 2 in the NW¼, and SE¼ excluding non-public lands;

Sec. 4, N½ of lot 1 in the NE¼ and lot 2 in the NE¼;

Sec. 6, lot 1 in the S½NE¼, S½ of lot 2 in the NE¼NE¼, lot 2 in the NW¼NE¼, and lot 2 in the NW¼;

Sec. 8, S½NW¼SW¼ and SW¼SW¼;

Sec. 10, N½ excluding nonpublic lands and S½;

Sec. 11, N½NE¼, N½SW¼NE¼, SE¼SW¼NE¼, SE¼NE¼, NE¼NW¼, N½NW¼NW¼, SE¼NW¼NW¼, S½SW¼NW¼, SW¼SE¼NW¼, SW¼, S½NW¼SE¼, and S½SE¼;

Sec. 12, N½, S½SW¼SW¼, NE¼SE¼, E½NW¼SE¼, NW¼NW¼SE¼, NW¼SE¼SE¼, and NE¼SW¼SE¼;

Sec. 13, S½NE¼, S½N½NE¼, S½NE¼NW¼, SE¼NW¼, W½NW¼, and S½;

Sec. 14, E½;

Sec. 15, S½;

Sec. 17, S½N½ and NW¼NW¼;

Sec. 18, lot 1 and 2 in the SW¼ and SE¼;

Secs. 19 and 20;

Sec. 21, N½;

Sec. 22;

Sec. 23, E½, E½NW¼, NW¼NW¼, and SW¼;

Sec. 24;

Sec. 25, W½;

Sec. 26;

Sec. 27, that portion situated northerly of Right-of-Way CAR-05498;

Sec. 28, N½N½N½;

Sec. 29, N½N½N½;

Sec. 30, N½N½ of lot 1 in the NW¼, N½ of lot 2 in the NW¼, and N½N½NE¼;

Sec. 34, those portions of the N½N½N½ situated northerly of Right-of-Way CAR-05498;

Sec. 35, N½N½N½.

T. 3 S., R. 17 E.,

Sec. 17, excluding the Palen-McCoy Wilderness Area;

Secs. 18 and 19;

Secs. 20 and 21, excluding the Palen-McCoy Wilderness Area;

Sec. 27, SW¼ excluding the Palen-McCoy Wilderness Area;

Sec. 28, excluding the Palen-McCoy Wilderness Area;

Sec. 29;

Sec. 30, lots 1 and 2 in the NW¼, N½ of lots 1 and 2 in the SW¼, NE¼, and N½SE¼;

Sec. 31, lot 1 in the E½SW¼ excluding lands within Right-of-Way CAR-06910 and lot 2 in the SW¼ excluding lands within Right-of-Way CAR-06910;

Sec. 32, E½, NE¼NW¼, and E½SE¼NW¼;

Sec. 33;

Sec. 34, excluding the Palen-McCoy Wilderness Area.

T. 4 S., R. 17 E.,

Sec. 3, excluding the Palen-McCoy Wilderness Area;

Sec. 4;

Sec. 5, lots 1 and 2 in NE¼, E½SE¼, and E½W½SE¼;

Sec. 6, W½ of lots 1 and 2 in the NE¼, W½ of lots 1 and 2 in the NW¼, S½E½ of lot 1 in the NW¼, lots 1 and 2 in the SW¼, and SE¼;

Sec. 7;

Sec. 8, E½NE¼, E½W½NE¼, and NE¼SE¼;

Sec. 9;

Sec. 10, excluding the Palen-McCoy Wilderness Area;

Sec. 11, excluding the Palen-McCoy Wilderness Area;

Sec. 14, excluding the Palen-McCoy Wilderness Area;

Sec. 15;

Sec. 17, W½SW¼;

Secs. 18 and 19;

Sec. 20, W½NW¼;

Sec. 21, NE¼ and E½SE¼;

Sec. 22;

Sec. 23, excluding the Palen-McCoy Wilderness Area;

Sec. 26, excluding the Palen-McCoy Wilderness Area;

Sec. 27;

Sec. 28, E½NE¼;

Secs. 30 and 31;

Sec. 34, E½, E½W½, and E½W½W½;

Sec. 35, excluding the Palen-McCoy Wilderness Area.

T. 5 S., R. 17 E.,

Sec. 1, excluding the Palen-McCoy Wilderness Area;

Sec. 2, excluding the Palen-McCoy Wilderness Area;

Sec. 3, E½E½E½;

Sec. 5, lots 1 and 2 in the NW¼ and SW¼;

Sec. 6;

Sec. 7, excluding non-public lands;

Sec. 8, W½ and SE¼;

Sec. 9, SW¼, W½SE¼, SW¼NE¼SE¼, W½SE¼SE¼, and SE¼SE¼SE¼;

Sec. 10, E½E½E½;

Sec. 11, excluding the Palen-McCoy Wilderness Area;

Sec. 14, excluding the Palen-McCoy Wilderness Area and non-public lands;

Sec. 15, NE¼NE¼NE¼, SW¼NW¼SW¼, W½SW¼SW¼, SE¼SW¼SW¼, and S½SE¼SW¼;

Sec. 17, excluding non-public lands;

Sec. 18, excluding non-public lands;

Sec. 19, NE¼, lots 1 and 2 in the NW¼, and lots 1 and 2 in the SW¼;

Sec. 20, W½NW¼, SE¼NW¼, and S½;

Sec. 21;

Sec. 22, SW¼NW¼NE¼, SW¼NE¼, W½, NW¼NE¼SE¼, S½NE¼SE¼, W½SE¼, and SE¼SE¼;

Sec. 23, NE¼ excluding the Palen-McCoy Wilderness Area, E½NW¼, E½NE¼SW¼, S½SW¼, and SE¼;

Sec. 26, SW¼NW¼ and SW¼;

Sec. 27, N½, N½SW¼, SE¼SW¼, and SE¼;

Sec. 28;

Sec. 29, E½ and SW¼;

Secs. 31 to 34 inclusive;

Sec. 35, NW¼ excluding non-public lands.

T. 6 S., R. 17 E.,

Sec. 1, lots 1 and 2 in the NW¼ and S½;

Sec. 2;

Sec. 3, excluding non-public lands;

Sec. 4, that portion situated northerly of Right-of-Way CAR-05498;

Secs. 10, 11, and 12, those portions situated northerly of Right-of-Way CAR-05498.

T. 6 S., R. 18 E.,

Secs. 1, 2, 3, and 4 excluding Palen-McCoy Wilderness Area;

Sec. 7, lot 1 in the SW¼, lot 2 in the SW¼, and SE¼;

Sec. 9;

Sec. 10, N½, NE¼SW¼, and N½SE¼;

Secs. 11, 12, and 13;

Sec. 14, N½, N½S½, and S½SE¼;

Sec. 17, that portion situated northerly of Right-of-Way CAR-05498;

Sec. 18, those portions of the NE¼ situated northerly of Right-of-Way CAR-05498;

Sec. 23, N½NE¼, NE¼NW¼ and that portion of the S½ situated northerly of Right-of-Way CAR-05498;

Sec. 24, that portion of the S½ situated northerly of Right-of-Way CAR-05498.

T. 6 S., R. 19 E.,

Secs. 3, 4, and 5, excluding the Palen-McCoy Wilderness Area;

Sec. 6, N½ excluding the Palen-McCoy Wilderness Area and SE¼;

Secs. 7, 8, and 9;

Secs. 10, 11, 12, and 13 excluding the Palen-McCoy Wilderness Area;

Secs. 14, 15, 17, and 18;

Sec. 19, NW¼NE¼, N½ of lots 1 and 2 in the NW¼, S½ of lots 1 and 2 in the SW¼, and SE¼;

Secs. 20 to 24, inclusive;

Sec. 25, W½;

Secs. 26 and 27;

Sec. 28, that portion situated northerly of Right-of-Way CALA-0107395;

Sec. 29, that portion of the E½ situated northerly of Right-of-Way CALA-0107395;

Sec. 33, that portion of the N½ situated northerly of Right-of-Way CALA-0107395;

Sec. 34, that portion of the N½ situated northerly of Right-of-Way CALA-0107395;

Sec. 35, that portion of the N½ situated northerly of Right-of-Way CALA-0107395.

T. 6 S., R 20 E.,

Sec. 3;

Sec. 5, S½ excluding the Palen-McCoy Wilderness Area;

Sec. 7, excluding the Palen-McCoy Wilderness Area;

Sec. 8, excluding the Palen-McCoy Wilderness Area;

Secs. 9, 10, and 15;

Sec. 16, S½NW¼ and NE¼NW¼;

Sec. 17, E½ and NW¼;

Sec. 18;

Sec. 19, lots 1 and 2 in the SW¼ and W½E½;

Sec. 20, W½, E½SE¼, and SW¼SE¼;

Sec. 21, E½, W½NW¼, and NE¼NW¼;

Sec. 22, N½ and SE¼;

Sec. 23, S½;

Sec. 24, S½;

Sec. 25, N½ and SE¼;

Sec. 26;

Sec. 27, N½NW¼, SW¼NW¼, and S½;

Sec. 28, E½, NE¼SW¼, and S½SW¼;

Secs. 29 and 30;

Sec. 31, N½ of lot 1 in NW1/4 and N½N½NE¼;

Sec. 32, N½N½N½;

Sec. 33, N½N½NE¼;

Sec. 34, N½N½N½;

Sec. 35, NW¼NE¼, N½NW¼, and S½.

T. 7 S., R. 20 E.,

Sec. 1, lots 1 and 2 in the NE¼, lots 1 and 2 in the NW¼, and SW¼;

Sec. 2, lots 1 and 2 in the NE¼, lots 1 and 2 in the NW¼, and SE¼;

Sec. 11, E½NE¼, SW¼NE¼, and S½;

Secs. 12, 13, 24, and 25.

T. 4 S., R. 21 E.,

Sec. 2, SW¼;

Secs. 3 and 4;

Sec. 5, E½ of lot 1 in the NE¼, lots 5 to 12, inclusive, and SE¼;

Sec. 8, E½;

Secs. 9 to 15, inclusive;

Secs. 21 to 35, inclusive.

T. 5 S., R. 21 E.,

Secs. 1 to 14, inclusive;

Sec. 15, S½;

Secs. 17 to 23, inclusive;

Sec. 24, S½;

Secs. 25 to 30, inclusive;

Secs. 32 to 35, inclusive.

T. 6 S., R. 21 E.,

Tracts 37 to 47, inclusive;

Tracts 49 to 56, inclusive;

Tracts 58, 59, N½ of 61 and N½ of 62;

Tracts 68, 69, 71, N½ of 73, and 74 to 80, inclusive;

Secs. 4, 5, 8, and 9;

Sec. 15, lots 1 and 2, SW¼, and W½SE¼;

Secs. 19 and 22;

Sec. 23, lots 2, 3, 5, and 6, and W½W½;

Sec. 26, lot 1;

Sec. 27;

Sec. 29, N½ and SW¼;

Sec. 30;

Sec. 31, lots 5, 6, 9, 10, 11, 12, 17, and 18, S½NE¼, and SE¼;

Sec. 32, NW¼.

T. 7 S., R. 21 E.,

Sec. 2, lots 3, 4, 5, 6, S½N½, E½SW¼, and NW¼SE¼;

Sec. 3;

Sec. 4, lots 3 and 4, S½NE¼, and S½;

Sec. 5, S½S½;

Sec. 6, SE¼;

Sec. 7;

Sec. 8, SW¼;

Sec. 9, E½ and SW¼;

Sec. 10;

Sec. 11, N½ and SW¼;

Sec. 12, NW¼ and N½SW¼;

Sec. 13;

Sec. 14, S½NE¼, NW¼, and S½;

Sec. 15, W½ and SE¼;

Sec. 17, E½, SE¼NW¼, and SW¼;

Sec. 18;

Secs. 19, 20, and 21, excluding the Mule Mountains Area of Critical Environmental Concern (ACEC);

Sec. 22, N½ and SW¼;

Secs. 23 and 24;

Sec. 25, S½NW¼ and N½SW¼;

Sec. 26, E½;

Sec. 27, NW¼ excluding the Mule Mountains ACEC, and S½ excluding the Mule Mountains ACEC;

Sec. 28, excluding the Mule Mountains ACEC;

Sec. 30, excluding the Mule Mountains ACEC;

Sec. 34, excluding the Mule Mountains ACEC;

Sec. 35.

T. 4 S., R. 22 E.,

Secs. 7, 8, and secs. 17 to 20, inclusive;

Secs. 29 to 33, inclusive.

T. 5 S., R. 22 E.,

Secs. 2 to 6, inclusive;

Sec. 7, lots 1 and 2 in the NW¼ and E½;

Secs. 8 to 14, inclusive;

Sec. 15, E½;

Sec. 17;

Sec. 18, NE¼, lots 1 and 2 in the NW¼, and lots 1 and 2 in the SW¼;

Secs. 19 and 20;

Sec. 21, S½;

Secs. 22, 23, and 24;

Sec. 25, W½NE¼, NW¼, and N½SW¼;

Sec. 26, N½;

Sec. 27, N½ and SW¼;

Sec. 28, S½;

Sec. 29, N½ and SW¼;

Sec. 30;

Sec. 31, E½;

Sec. 32;

Sec. 33, SW¼.

T. 6 S., R. 22 E.,

Sec. 3, lots 1 and 2 in the NW¼ and SW¼SW¼;

Secs. 4 to 7, inclusive;

Sec. 8, N½NE¼ and NW¼;

Sec. 9, NE¼, N½NW¼, SE¼NW¼, and E½SE¼;

Sec. 10, NW¼NW¼;

Sec. 18, N½ of lot 1 in the NW¼ and lot 2 in the NW¼.

T. 7 S., R. 22 E.,

Sec. 18, lot 4.

The areas described aggregate approximately 102,986 acres.

Imperial East SEZ:

T. 16 S., R. 17 E.,

Sec. 21, that portion lying 120 feet south of the centerline of Interstate 8 and east of Lake Cahuilla No. 5 ACEC;

Secs. 22 to 25, inclusive, those portions lying 120 feet south of the centerline of Interstate 8;

Secs. 26 and 27;

Secs. 28 and 33, those portions lying east of Lake Cahuilla No. 5 ACEC;

Secs. 34 and 35.

T. 16 S., R. 18 E.,

Secs. 29 and 30, those portions lying 120 feet south of the centerline of Interstate 8;

Sec. 31, lot 3, NE¼, NE¼NW¼, SE¼SW¼, and S½SE¼;

Sec. 32, that portion of the N½N½ lying 120 feet south of the centerline of Interstate 8, S½NW¼SW¼, and S½S½;

Sec. 33, that portion of the N½ lying 120 feet south of the centerline of Interstate 8 and N½SE¼;

Sec. 34, those portions of the N½SW¼ and the NW¼SE¼ lying 120 feet south of the centerline of Interstate 8.

The areas described aggregate approximately 5,722 acres.

Pisgah SEZ:

T. 8 N., R. 4 E.,

Secs. 2, 3, and 4;

Sec. 10, NW¼NE¼ and N½NW¼;

Sec. 11, NE¼;

Sec. 12, N½ and SE¼.

T. 9 N., R. 4 E.,

Sec. 22, SW¼;

Sec. 27, W½;

Secs. 28 and 34.

T. 7 N., R. 5 E.,

Sec. 2, W½ of lot 2 in the NW¼;

Sec. 3, W½ of lot 1 in the NE¼, lot 2 in the NE¼, and lots 1 and 2 in the NW¼.

T. 8 N., R. 5 E.,

Secs. 2, 3, 4, 6, 7, 8, 10, 11, 12, 14, 15, 22, 23, and 24;

Sec. 26, N½, W½W½SW¼, and N½SE¼;

Sec. 27;

Sec. 34, W½ and SE¼;

Sec. 35, W½SW¼, SE¼SW¼, and S½SE¼.

T. 9 N., R. 5 E.,

Sec. 19, W½NE¼, W½, and SE¼;

Secs. 30, 31, 32, 34, and 35.

T. 8 N., R. 6 E.,

Secs. 6 and 7;

Sec. 8, N½, SW¼, and NW¼SE¼;

Secs. 18 and 19;

Sec. 20, W½, W½SE¼, and SE¼SE¼;

Secs. 30 and 31.

The areas described aggregate approximately 23,950 acres.

COLORADO—CO 073899

New Mexico Principal Meridian

Antonito Southeast SEZ:

T. 32 N., R. 9 E.,

Sec. 3, lot 4, SW¼NW¼, W½SW¼, SE¼SW¼, SW¼SE¼, and E½SE¼;

Secs. 4, 9, 10, and 11;

Sec. 12, W½ and SE¼;

Secs. 13, 14, and 15;

Sec. 21, lots 1 to 4, inclusive, and N½;

Sec. 22, lots 1 to 4, inclusive, and N½;

Sec. 23, lots 1 to 4, inclusive, and N½;

Sec. 24, lots 1 to 4, inclusive, and N½.

T. 32 N., R. 10 E.,

Sec. 7, lot 4, SE¼SW¼, and S½SE¼;

Sec. 8, S½S½;

Sec. 9, SW¼SW¼;

Secs. 17 and 18;

Sec. 19, lots 1 to 6, inclusive, NE¼, and E½NW¼;

Sec. 20, lots 1 to 4, inclusive, and N½;

Sec. 21, lots 1 to 4, inclusive, W½NE¼, and NW¼.

The areas described aggregate approximately 9,729 acres.

Detilla Gulch SEZ:

T. 45 N., R. 8 E.,

Sec. 36, that portion of the S½NE¼ lying southeasterly of the centerline of Highway 285 and one-quarter mile north of and parallel to the centerline of the Old Spanish National Historic Trail as mapped by the National Park Service.

T. 45 N., R. 9 E.,

Sec. 20, that portion of the SE¼SE¼ lying southeasterly of the centerline of Highway 285;

Sec. 29, that portion lying southeasterly of the centerline of Highway 285;

Sec. 30, that portion of the S½ lying southeasterly of the centerline of Highway 285;

Sec. 31, NE¼; those portions of lot 1 and the E½NW¼ lying southeasterly of the centerline of Highway 285; that portion of lot 2 lying southeasterly of the centerline of Highway 285 and one-quarter mile north of and parallel to the centerline of the Old Spanish National Historic Trail as mapped by the National Park Service; and those portions of lot 3, NE¼SW¼, and N½SE¼ lying one-quarter mile north of and parallel to the centerline of the Old Spanish National Historic Trail as mapped by the National Park Service;

Sec. 32, N½; and that portion of the N½SW¼, lying one-quarter mile north of and parallel to the centerline of the Old Spanish National Historic Trail as mapped by the National Park Service;

Sec. 33, N½NE¼ and NW¼.

The areas described aggregate approximately 1,522 acres.

Fourmile East SEZ:

T. 37 N., R. 12 E.,

Sec. 2, lots 3 and 4, and S½NW¼;

Sec. 3, lots 1 to 4, inclusive, and S½N½.

T. 38 N., R. 12 E.,

Sec. 13, S½;

Sec. 23;

Sec. 24, W½ and SE¼;

Sec. 25, N½ and SW¼;

Sec. 34, E½;

Sec. 35, NW¼.

T. 38 N., R. 13 E.,

Sec. 19, lots 1 to 4, inclusive;

Sec. 30, lots 1 to 4, inclusive.

The areas described aggregate approximately 3,882 acres.

Los Mogotes East SEZ:

T. 34 N., R. 8 E.,

Secs. 1, 2, 11, and 12;

Sec. 13, NE¼NE¼, W½NE¼, W½, and NW¼SE¼;

Secs. 14 and 23;

Sec. 24, W½ and W½SE¼;

Sec. 25, W½ and W½E½;

Sec. 26.

The areas described aggregate approximately 5,918 acres.

NEVADA—NV 087208

Mount Diablo Meridian

Amargosa Valley SEZ:

T. 14 S., R. 46 E.,

Secs. 12, 13, 24, 25, and 36, unsurveyed.

T. 15 S., R. 46 E.,

Sec. 1, unsurveyed;

Sec. 12, N½NE¼ and SW¼NE¼, unsurveyed.

T. 13 S., R. 47 E.,

Sec. 33, E½NE¼, SW¼NE¼, SE¼NW¼, and S½;

Sec. 34;

Sec. 35, E½NE¼, SW¼NE¼, NW¼NW¼, S½NW¼, and S½;

Sec. 36.

T. 14 S., R. 47 E.,

Sec. 3, E½SW¼ and SW¼SE¼, unsurveyed;

Secs. 7 to 10, inclusive, unsurveyed;

Sec. 11, S½NW¼, SW¼, and W½SE¼, unsurveyed;

Sec. 13, S½NW¼, NE¼SW¼, and W½SW¼, unsurveyed;

Secs. 14 to 23, inclusive, unsurveyed;

Sec. 24, W½E½ and W½, unsurveyed;

Sec. 25, W½NE¼ and W½, unsurveyed;

Secs. 26 to 35, inclusive, unsurveyed;

Sec. 36, W½ unsurveyed.

T. 15 S., R. 47 E.,

Sec. 1, W½W½, unsurveyed;

Secs. 2 to 6, inclusive, unsurveyed;

Sec. 7, E½, E½NW¼, and NE¼SW¼, unsurveyed;

Secs. 8 to 11, inclusive, unsurveyed;

Sec. 12, NW¼NW¼, unsurveyed;

Sec. 14, N½ and N½S½, unsurveyed;

Sec. 15, N½ and N½S½, unsurveyed;

Sec. 16, N½, N½S½, and SW¼SW¼, unsurveyed;

Sec. 17, E½, N½NW¼, SE¼NW¼, and SW¼, unsurveyed;

Sec. 18, NE¼NE¼, unsurveyed.

The areas described aggregate approximately 31,625 acres.

Delamar Valley SEZ:

T. 5 S., R. 63 E.,

Sec. 25, E½NW¼, SW¼NW¼, W½SW¼, and SE¼SW¼, unsurveyed;

Sec. 35, E½NE¼ and SE¼, unsurveyed;

Sec. 36, W½, unsurveyed.

T. 6 S., R. 63 E.,

Sec. 1, NW¼ and W½SW¼, unsurveyed;

Sec. 2, NE¼, E½NW¼, SW¼NW¼, and S½, unsurveyed;

Sec. 3, S½SW¼, SW¼SE¼, and E½SE¼, unsurveyed;

Sec. 4, SE¼SE¼, unsurveyed;

Sec. 10, N½, N½SW¼, SE¼SW¼, and SE¼, unsurveyed;

Sec. 11, unsurveyed;

Sec. 12, NW¼NW¼, unsurveyed;

Sec. 13, W½SW¼, unsurveyed;

Sec. 14, unsurveyed;

Sec. 15, E½ and E½W½, unsurveyed;

Sec. 22, NE¼, E½NW¼, SW¼NW¼, and S½, unsurveyed;

Sec. 23, unsurveyed;

Sec. 24, W½, unsurveyed;

Sec. 25, W½, unsurveyed;

Sec. 26, unsurveyed;

Sec. 27, E½, E½W½, and SW¼SW¼, unsurveyed;

Sec. 33, E½E½ and W½SE¼, unsurveyed;

Secs. 34 and 35, unsurveyed;

Sec. 36, NW¼, N½SW¼, and SW¼SW¼, unsurveyed.

T. 7 S., R. 63 E.,

Secs. 2 and 3, unsurveyed;

Sec. 4, E½ and E½SW¼, unsurveyed;

Sec. 9, E½ and E½W½, unsurveyed;

Sec. 10, unsurveyed;

Sec. 11, W½ and W½SE¼, unsurveyed;

Sec. 14, N½NW¼ and SW¼NW¼, unsurveyed;

Sec. 15, unsurveyed;

Sec. 16, E½, E½SW¼, and SW¼SW¼, unsurveyed;

Sec. 17, SW¼SW¼, E½SW¼, and W½SE¼, unsurveyed;

Sec. 19, E½, unsurveyed;

Secs. 20 and 21, unsurveyed;

Sec. 22, NW¼ and NW¼SW¼, unsurveyed;

Sec. 28, NW¼NE¼, NW¼, W½SW¼, and NE¼SW¼, unsurveyed;

Sec. 29, unsurveyed;

Sec. 30, E½E½, unsurveyed;

Sec. 31, N½NE¼, unsurveyed;

Sec. 32, N½NE¼ and N½NW¼, unsurveyed.

The areas described aggregate approximately 16,552 acres.

Dry Lake SEZ:

T. 16 S., R. 63 E.,

Sec. 13, lot 4, W½SW¼, SE¼SW¼, and SW¼SE¼;

Sec. 14, SE¼NE¼, SW¼SE¼, and E½SE¼;

Sec. 23, NE¼, NE¼NW¼, and E½SE¼;

Sec. 24, lots 1 to 4, inclusive, W½E½, and W½;

Sec. 25, lots 1 to 4, inclusive, W½E½, and W½;

Sec. 26, E½NE¼, SW¼NE¼, and SE¼;

Sec. 35, E½NE¼, SW¼NE¼, SE¼NW¼, W½NW¼, E½SW¼, and SE¼;

Sec. 36, lots 1 to 4, inclusive, W½E½, and W½.

T. 17 S., R. 63 E.,

Sec. 11, N½SW¼, SE¼SW¼, and SE¼;

Sec. 12, lots 1 to 4, inclusive, S½NE¼, S½NW¼, and S½;

Sec. 13, W½ and W½SE¼;

Sec. 14, NE¼, N½NW¼, E½SW¼, and SE¼;

Sec. 22, SE¼NE¼, W½NE¼, and SE¼;

Sec. 23, NE¼, NE¼NW¼, S½NW¼, and S½;

Secs. 24, 25, and 26;

Sec. 27, E½ and SE¼SW¼;

Sec. 33, lots 9, 10, 13, and 14, and NE¼SE¼;

Sec. 34, lots 1 to 4, inclusive, NE¼, S½NW¼, and N½S½;

Sec. 35, lots 1 to 4, inclusive, N½, and N½S½;

Sec. 36, lots 1 to 4, inclusive, N½, and N½S½.

T. 18 S., R. 63 E.,

Secs. 1 and 2;

Sec. 3, lots 1, 2, 3, 5, 7, 8, 9, 10, 13, and 14, S½NE¼, and NE¼SE¼;

Sec. 4, lot 5;

Sec. 10, lot 1;

Sec. 11, lots 1, 3, 4, 5, and 9, NE¼, NE¼NW¼, N½SE¼, and SE¼SE¼;

Sec. 12;

Sec. 13, lots 4, 8, and 9, that portion of lot 14 lying north of Highway 93, lots 15 and 16, NW¼NE¼, N½NW¼, and SE¼NW¼;

Sec. 14, lot 1.

T. 17 S., R. 64 E.,

Sec. 7, lots 7 to 11, inclusive, SE¼NW¼, E½SW¼, and SE¼;

Sec. 8, lot 8, SW¼NW¼, and W½SW¼;

Sec. 19, lot 5;

Sec. 30, lots 7 and 8;

Sec. 31, lots 5 to 8 inclusive, SW¼NE¼, E½W½, and SE¼;

Sec. 32, S½.

T. 18 S., R. 64 E.,

Sec. 5, lots 6, 7, and 8, SW¼NE¼, S½NW¼ and N½SW¼;

Sec. 6, lots 8 to 14, inclusive, S½NE¼, SE¼NW¼, E½SW¼, and SE¼;

Sec. 7, lots 12 to 17, inclusive, lots 21 to 24, inclusive, lots 27 and 28, E½NE¼, and NE¼SE¼.

The areas described aggregate approximately 15,649 acres.

Dry Lake Valley North SEZ:

T. 1 N., R. 64 E.,

Secs. 1 to 4, inclusive, and 9 to 16, inclusive;

Sec. 20, E½NE¼, NW¼SW¼, E½SW¼, and SE¼;

Secs. 21 to 28, inclusive;

Sec. 29, NE¼NE¼;

Sec. 33, NE¼, N½NW¼, N½SE¼, and SE¼SE¼;

Secs. 34, 35, and 36.

T. 2 N., R. 64 E.,

Sec. 4, lot 4, SW¼NW¼, SW¼, and SW¼SE¼;

Sec. 5, lots 1 to 4, inclusive, S½N½, N½SW¼, SW¼SW¼, and SE¼;

Sec. 6, lot 1, S½NE¼, and NE¼SE¼;

Sec. 8, E½NE¼, NW¼NE¼, and NE¼NW¼;

Sec. 9, W½NE¼, SE¼NE¼, W½, and SE¼;

Sec. 10, SW¼NW¼, SW¼SW¼, E½SW¼, and SW¼SE¼;

Sec. 13, SW¼NE¼, SW¼NW¼, SW¼, W½SE¼, and SE¼SE¼;

Sec. 14, SE¼NE¼ and S½;

Secs. 15 and 16;

Sec. 17, E½NE¼;

Secs. 21 to 28, inclusive;

Sec. 29, E½SE¼;

Sec. 32, E½NE¼;

Secs. 33 to 36, inclusive.

T. 3 N., R. 64 E.,

Sec. 29, SW¼NW¼ and SW¼;

Sec. 30, E½E½ and NW¼NE¼;

Sec. 31, E½E½;

Sec. 32, W½NE¼, W½, and SE¼.

T. 1 N., R. 65 E.,

Sec. 5, lots 3 and 4, S½NW¼, and SW¼;

Secs. 6 and 7;

Sec. 8, W½;

Sec. 17, W½;

Secs. 18 and 19;

Sec. 20, W½;

Sec. 29, W½;

Secs. 30 and 31;

Sec. 32, W½.

T. 2 N., R. 65 E.,

Sec. 17, W½SW¼ and SE¼SW¼;

Sec. 18, lot 4, SE¼SW¼, and S½SE¼;

Sec. 19;

Sec. 20, W½;

Sec. 29, W½;

Secs. 30 and 31;

Sec. 32, W½.

T. 1 S., R. 64 E.,

Secs. 1 and 2;

Sec. 3, lots 1 and 2 and SE¼;

Sec. 10, NE¼, E½NW¼, SW¼NW¼, and S½;

Secs. 11 to 15, inclusive;

Sec. 16, SE¼NE¼ and SE¼;

Sec. 21, E½ and E½W½;

Secs. 22 to 27, inclusive;

Sec. 28, E½;

Sec. 33, E½E½ and NW¼NE¼;

Secs. 34, 35, and 36.

T. 2 S., R. 64 E.,

Secs. 1, 2, and 3;

Sec. 4, lot 1 and SE¼NE¼;

Sec. 10, N½, N½SW¼, SE¼SW¼, and SE¼;

Secs. 11 to 14, inclusive;

Sec. 15, NE¼, E½NW¼, NE¼SW¼, N½SE¼, and SE¼SE¼;

Sec. 23, NE¼, E½NW¼, NW¼NW¼, N½SE¼, and SE¼SE¼;

Sec. 24;

Sec. 25, N½NE¼.

T. 1 S., R. 65 E.,

Sec. 4, lot 4, W½SW¼;

Sec. 6, lots 3 and 4, and lots 7 to 13, inclusive;

Sec. 7, lots 5 to 20, inclusive;

Sec. 8;

Sec. 9, lots 4 and 5 and W½SW¼;

Sec. 14, S½S½;

Sec. 15, W½ and S½SE¼;

Secs. 16 to 23, inclusive;

Secs. 26 to 31, inclusive;

Sec. 32, N½, SW¼, and W½SE¼;

Sec. 33, W½NW¼;

Sec. 34, E½ and E½W½;

Sec. 35.

T. 2 S., R. 65 E.,

Sec. 2;

Sec. 3, lots 1 to 3, inclusive, S½NE¼, SE¼NW¼, E½SW¼, and SE¼;

Sec. 5, lots 2 to 4, inclusive, SW¼NE¼, S½NW¼, SW¼, and W½SE¼;

Secs. 6 and 7;

Sec. 8, W½E½ and W½;

Sec. 16, SW¼NE¼ and S½NW¼;

Sec. 17, SE¼NE¼, W½NE¼, W½, and SE¼;

Secs. 18 and 19;

Sec. 20, W½NE¼ and W½;

Sec. 29, NW¼, N½SW¼, and SE¼SW¼;

Sec. 30, lot 14, NE¼, E½NW¼, and NE¼SE¼.

The areas described aggregate approximately 76,874 acres.

East Mormon Mountain SEZ:

T. 11 S., R. 69 E.,

Secs. 10 to 15, inclusive, Secs. 22 to 27, inclusive, and Secs. 34 and 35.

The areas described aggregate approximately 8,968 acres.

Gold Point SEZ:

T. 6 S., R. 41 E.,

Sec. 13, S½;

Sec. 14, E½SE¼;

Sec. 23, E½E½ and NW¼SE¼;

Sec. 24;

Sec. 25, N½, NE¼SW¼, and N½SE¼;

Sec. 26, NE¼NE¼.

T. 6 S., R. 41½ E.,

Sec. 13 N½SW¼, SW¼SW¼, and W½NW¼SE¼, unsurveyed;

Sec. 14, S½, unsurveyed;

Sec. 15, S½, unsurveyed;

Sec. 16, S½, unsurveyed;

Secs. 21 and 22, unsurveyed;

Sec. 23, N½NE¼, SW¼NE¼, W½, and NW¼SE¼, unsurveyed;

Sec. 26, NW¼NW¼, unsurveyed;

Sec. 27 N½, SW¼, N½SE¼, and SW¼SE¼, unsurveyed;

Sec. 28, unsurveyed.

The areas described aggregate approximately 4,810 acres.

Millers SEZ:

T. 3 N., R. 39 E.,

Sec. 1;

Sec. 2, lot 1, S½NE¼, NE¼SW¼, S½SW¼, and SE¼;

Sec. 11, N½N½ and SW¼NW¼;

Sec. 12, N½NW¼.

T. 4 N., R. 39 E.,

Sec. 36, E½NE¼, SW¼NE¼, NE¼SW¼, S½SW¼, and SE¼.

T. 3 N., R. 40 E.,

Sec. 4, lots 3 and 4, S½NW¼, and NW¼SW¼;

Sec. 5, lots 1 to 4, inclusive, S½N½, and N½S½;

Sec. 6.

T. 4 N., R. 40 E.,

Sec. 10, S½S½;

Sec. 11, S½;

Sec. 12, SW¼NE¼, S½NW¼, SW¼, and W½SE¼;

Sec. 13, W½E½ and W½;

Secs. 14, 15, and 16;

Sec. 17, S½N½ and S½;

Sec. 18, SE¼;

Sec. 19, E½, E½NW¼, and NE¼SW¼;

Secs. 20 to 23, inclusive;

Sec. 24, W½E½ and W½;

Sec. 25, E½NW¼ and W½W½;

Secs. 26 to 29, inclusive;

Sec. 30, lot 4, E½, E½SW¼, and S½SW¼;

Secs. 31 and 32;

Sec. 33, N½, N½S½, and S½SW¼;

Sec. 34;

Sec. 35, N½, SW¼, and W½SE¼.

The areas described aggregate approximately 16,787 acres.

NEW MEXICO—NM 114441

New Mexico Principal Meridian

Afton SEZ:

T. 24 S., R. 1 E.,

Secs. 4 and 5;

Sec. 6, lots 8 to 11, inclusive, E½, and E½W½;

Sec. 7, lots 5 to 8, inclusive, E½, and E½W½;

Secs. 8, 9, and 17;

Sec. 18, lots 5 to 8, inclusive, E½, and E½W½;

Sec. 19, lots 5 to 8, inclusive, E½, and E½W½;

Secs. 20, 21, and 28;

Sec. 29, lots 1 to 4, inclusive, N½, and N½S½;

Sec. 30, lots 5 to 9, inclusive, NE¼, E½W½, N½SE¼, and SW¼SE¼;

Sec. 31, lots 5 to 14, inclusive, W½NE¼, E½NW¼, NE¼SW¼, and NW¼SE¼;

Sec. 33, lots 1 to 4, inclusive, N½, and N½S½;

Sec. 34, lots 1 to 4, inclusive, N½, and N½S½;

Sec. 35, lots 1 to 7, inclusive, W½NE¼, NW¼, N½SW¼, and NW¼SE¼.

T. 25 S., R. 1 E.,

Sec. 1;

Secs. 3 to 15, inclusive;

Secs. 17 to 20, inclusive;

Sec. 21, N½, N½S½, SE¼SW¼, and S½SE¼;

Secs. 22 to 31, inclusive;

Secs. 33, 34, and 35.

T. 25 S., R. 2 E.,

Sec. 5, lots 13 to 17, inclusive, SW¼NW¼, W½SW¼, and SE¼SW¼;

Sec. 6, lots 2, 3, and 4, S½NE¼, SE¼NW¼, E½SW¼, and SE¼;

Sec. 7;

Sec. 8, lot 2, NW¼NE¼, S½NE¼, W½, and SE¼;

Sec. 9, lots 5 and 6;

Secs. 17 to 20, inclusive;

Sec. 21, N½, SW¼, N½SE¼, and SW¼SE¼;

Sec. 27, W½ and W½SE¼;

Sec. 28, S½;

Sec. 29, S½;

Secs. 30 and 33.

T. 24 S., R. 1 W.,

Secs. 1 and 3;

Sec. 4, lots 1 and 2, S½NE¼, SW¼SW¼, S½SE¼SW¼, and SE¼;

Sec. 5, S½;

Secs. 6 to 9, inclusive;

Sec. 10, NW¼;

Secs. 11 to 14, inclusive;

Sec. 15, N½, W½SW¼, and E½SE¼;

Sec. 17, N½;

Secs. 18, N½;

Secs. 19 and 20;

Sec. 21, N½, SW¼, and W½SE¼;

Sec. 22, NE¼NE¼, NW¼NW¼, S½N½, E½SW¼, and SE¼;

Secs. 23 to 35, inclusive.

T. 25 S., R. 1 W.,

Sec. 1;

Secs. 3 to 6, inclusive;

Sec. 7, lots 3 and 4, E½, and E½W½;

Secs. 8 to 15, inclusive, and secs. 17 and 18.

T. 24 S., R. 2 W.,

Secs. 1, 11, and 12;

Sec. 13, N½;

Sec. 14, N½ and N½S½;

Secs. 23 to 26, inclusive, and sec. 35.

T. 25 S., 2 W.,

Secs. 1 and 11;

Sec. 12, W½NE¼, W½, and SE¼;

Secs. 13 and 14.

The areas described aggregate approximately 77,623 acres.

Mason Draw SEZ:

T. 23 S., R. 2 W.,

Secs. 5 to 8, inclusive, and secs. 17 to 20, inclusive;

Secs. 29, 30, and 31.

T. 23 S., R. 3 W.,

Secs. 11 to 14, inclusive and secs. 23 to 26, inclusive;

Sec. 35.

The areas described aggregate approximately 12,909 acres.

Red Sands SEZ:

T. 18 S., R. 8 E.,

Secs. 25 and 35.

T. 19 S., R. 8 E.,

Secs. 1, 3, 4, 9, 10, 15, 21, and 22.

T. 17 S., R. 9 E.,

Sec. 17, that portion of the N½ lying south of Highway 70, N½SW¼, and SE¼;

Sec. 18, S½SE¼;

Sec. 19, lots 3 and 4, NE¼, E½SW¼, N½SE¼, and SW¼SE¼;

Sec. 20, NE¼, S½NW¼, and N½S½;

Sec. 28, W½E½ and W½;

Sec. 33, W½E½ and W½.

T. 18 S., R. 9 E.,

Sec. 4, lots 1 to 12, inclusive, and S½;

Sec. 9, NE¼ and E½SE¼;

Sec. 18, lots 1 to 12, inclusive, and E½;

Sec. 19, lots 1 to 12, inclusive, and E½;

Sec. 22, S½;

Sec. 23, W½SW¼;

Sec. 27, W½E½ and W½;

Secs. 28 and 29;

Sec. 30, lots 1 to 12, inclusive, and E½;

Sec. 31, lots 1 to 12, inclusive, and E½.

T. 19 S., R. 9 E.,

Sec. 2, that portion of lot 4 lying west of Highway 54;

Sec. 3, lots 1 to 7, inclusive, those portions of lots 8 and 9 lying west of Highway 54, lots 10, 11, and 12, SW¼, W½SE½, and that portion of the E½SE¼ lying west of Highway 54;

Sec. 4, lots 1 to 12, inclusive, and S½;

Sec. 5, lots 1 to 12, inclusive, and S½;

Sec. 6, lots 1 to 16, inclusive, and lot 21;

Secs. 8 and 9;

Sec. 10, that portion of the NE¼ lying west of Highway 54, W½, and that portion of the SE¼ lying west of Highway 54;

Sec. 15, that portion of the W½E½ lying west of Highway 54, and W½;

Secs. 17, 20, and 21;

Sec. 22, that portion of the W½NE¼ lying west of Highway 54, NW¼, and that portion of the SW¼ lying west of Highway 54;

Sec. 27, that portion of the N½NW¼ lying west of Highway 54 and north of Red Sands Off-Highway Vehicle (OHV) Area;

Sec. 28, that portion of the NE¼NE¼ lying north of Red Sands OHV area.

The areas described aggregate approximately 22,520 acres.

UTAH—087557

Salt Lake Meridian

Escalante Valley SEZ:

T. 33 S., R. 14 W.,

Sec. 8, NE¼, E½NW¼, SW¼NW¼, and S½;

Sec. 9, E½NE¼, S½SW¼, and SE¼;

Sec. 10;

Sec. 11, W½ and W½SE¼, those portions lying west of Railroad Right-of-Way Grant UTSL 0032533;

Sec. 14, E½, that portion lying west of Railroad Right-of-Way Grant UTSL 0032533;

Secs. 15, 17, 19, 30, and 31.

T. 33 S., R. 15 W.,

Secs. 24 and 25.

T. 34 S., R. 14 W.,

Sec. 6, lot 4.

The areas described aggregate approximately 6,614 acres.

Milford Flats South SEZ:

T. 30 S., R. 10 W.,

Sec. 18, lots 1 and 2, and E½NW¼.

T. 30 S., R. 11 W.,

Sec. 7, lots 3 and 4, and E½SE¼;

Sec. 8, SW¼ and W½SE¼;

Sec. 10, NE¼, E½NW¼, and S½;

Sec. 12, W½;

Sec. 13, N½, N½SW¼, and NW¼SE¼;

Sec. 14, N½, SW¼, N½SE¼, SW¼SE¼;

Secs. 15, 17, and 18;

Sec. 19, lots 1 and 2, NE¼, and E½ NW¼;

Sec. 20;

Sec. 21, N½, N½S½, and SW¼SW¼;

Sec. 22, N½NE¼ and NW¼;

Sec. 29, N½NW¼;

Sec. 30, N½NE¼.

The areas described aggregate approximately 6,480 acres.

Wah Wah Valley SEZ:

T. 27 S., R. 14 W.,

Sec. 8, E½ and SE¼SW¼;

Sec. 9, N½, N½SW¼, SE¼SW¼, and SE¼;

Sec. 10;

Sec. 11, lots 1 and 2, SW¼NE¼, S½NW¼, SW¼, and W½SE¼;

Sec. 13, lot 1;

Secs. 14 and 15;

Sec. 17, NW¼NE¼;

Sec. 21, lots 1 and 6, and E½NE¼;

Secs. 22 and 23;

Sec. 26, N½ and N½S½;

Sec. 27, N½ and N½S½;

Sec. 28, NE¼ and N½SE¼.

The areas described aggregate approximately 6,097 acres.

The total areas described aggregate approximately 677,384 acres of public lands in the following counties: La Paz, Yavapai, and Maricopa, Arizona; Imperial, San Bernardino, and Riverside, California; Conejos, Saguache, and Alamosa, Colorado; Nye, Lincoln, Clark, and Esmeralda, Nevada; Dona Ana and Otero, New Mexico; Iron and Beaver, Utah.

The Assistant Secretary of the Interior for Land and Minerals Management has approved the BLM's petition amendment. Therefore, the petition constitutes a withdrawal proposal of the Secretary of the Interior (43 CFR 2310.1-3(e)).

The purpose of the proposed withdrawal is to protect and preserve 24 SEZs for a 5-year period while they are analyzed for future solar energy development.

The use of a right-of-way, interagency or cooperative agreement, or surface management by the BLM under 43 CFR 3715 or 43 CFR 3809 regulations will not adequately constrain nondiscretionary uses, which could result in loss of adequate protection and preservation of the subject lands for future solar energy development. There are no suitable alternative sites for the withdrawal.

No water rights would be needed to fulfill the purpose of the requested withdrawal.

Records relating to the amended proposal and application may be examined by contacting Linda Resseguie at the above address or by calling 202-912-7337.

The application for proposed withdrawal will be processed in accordance with the regulations set forth in 43 CFR part 2300.

For a period of 90 days from the date of publication of this notice, all persons who wish to submit comments, suggestions, or objections in connection with the proposed withdrawal may present their views in writing to the BLM Director at the address noted above.

Notice is also hereby given that a public meeting in connection with the proposed withdrawal will be held Monday, May 23, 2011, from 6 p.m. to 8 p.m. at the BLM Southern Nevada District Office, 4701 North Torrey Pines Drive, Las Vegas, Nevada 89130.

At this meeting, the public will have an opportunity to provide oral and written comments.

All comments received will be considered before any recommendation concerning the proposed withdrawal is submitted to the Assistant Secretary of the Interior for Land and Minerals Management for final action.

The lands described in this notice will be segregated from settlement, sale, location, or entry under the general land laws, including the mining laws, until June 29, 2011, unless an application is denied or cancelled or the withdrawal is approved prior to that date.

Certain lands described in the June 30, 2009, Notice of Proposed Withdrawal, as published in the Federal Register (74 FR 31308), are not applicable to the purpose for which the withdrawal was proposed and have been deleted from the revised SEZ descriptions provided in this Notice. The original withdrawal proposal is cancelled and the segregative effect established by the June 30, 2009, Notice of Proposed Withdrawal, is hereby terminated as to those lands.

Comments including names and street addresses of respondents will be available for public review at the BLM Washington Office at the address noted above, during regular business hours 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

(Authority: 43 CFR 2310.3-1(a))

Robert V. Abbey,
Director, Bureau of Land Management.

[FR Doc. 2011-9551 Filed 4-20-11; 8:45 am]

BILLING CODE 4310-84-P